SMALL BUSINESS ADMINISTRATION

[Declaration of Disaster #3475]

Territory of Guam (Amendment #1)

In accordance with information received from the Federal Emergency Management Agency dated December 16, 2002, the above-numbered declaration is hereby amended to establish the incident period as beginning on December 8, 2002 and continuing through December 16, 2002.

All other information remains the same, i.e., the deadline for filing applications for physical damage is February 18, 2003, and for economic injury the deadline is September 19, 2003.

(Catalog of Federal Domestic Assistance Program Nos. 59002 and 59008.)
Dated: December 31, 2002.
S. George Camp,
Acting Associate Administrator for Disaster Assistance.

[FR Doc. 03-513 Filed 1-9-03; 8:45 am]

BILLING CODE 8025-01-P